FEDERAL COMMUNICATIONS COMMISSION

[WT Docket No. 05-265; RM-11723; DA 14-997]

Wireless Telecommunications Bureau Seeks Comment on Petition Filed by NTCH, Inc. To Rescind Forbearance and Initiate Rulemaking To Make Inter-Provider Roaming Rates Available

AGENCY: Federal Communications Commission.

ACTION: Notice.

SUMMARY: This document seeks comment on a petition to rescind the Commission's forbearance from the requirements of 47 U.S.C. 211 as they apply to Commercial Mobile Radio Service (CMRS) providers and to initiate a rulemaking to make inter-provider roaming rates available.

DATES: Comments are due on or before August 18, 2014, and reply comments are due on or before September 15, 2014.

ADDRESSES: All filings in response to this notice must refer to RM-11723 and WT Docket No. 05-265. The Wireless Telecommunications Bureau strongly encourages interested parties to file comments electronically. Comments may be submitted electronically by the following methods:

Federal Rulemaking Portal: http://www.regulations.gov. Follow the instructions for submitting comments.

Federal Communications Commission's Web site: http://fjallfoss.fcc.gov/ecfs2/. Follow the instructions for submitting comments.

By Email: To obtain instructions for filing by email, filers should send an email to ecfs@fcc.gov, and include the following words in the body of the message, “get form.” A sample form and direction will be sent in response.

Paper Filers: Parties who choose to file by paper must file an original and one copy of each filing. Filings can be sent by hand or messenger delivery, by commercial overnight courier, or by first-class or overnight U.S. Postal Service mail. All filings must be addressed to the Commission's Secretary, Attn: WTB/SCPD, Office of the Secretary, Federal Communications Commission. All hand-delivered or messenger-delivered paper filings for the Commission's Secretary must be delivered to FCC Headquarters at 445 12th Street SW., Room TW-A325, Washington, DC 20554. All hand deliveries must be held together with rubber bands or fasteners. All envelopes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

In addition, Parties are requested to send one copy of their comments and reply comments to Best Copy and Printing, Inc., Portals II, 445 12th Street SW., Room CY-B402, Washington, DC 20554, (800) 378-3160, email FCC@BCPIWEB.com.

People with Disabilities: Contact the FCC to request reasonable accommodations (accessible format documents, sign language interpreters, CART, etc.) by email: FCC504@fcc.gov or phone: 202-418-0530 or TTY: 202-418-0432.

FOR FURTHER INFORMATION CONTACT: Wireless Telecommunications Bureau, Spectrum and Competition Policy Division, William Beckwith at (202) 418-0134 or via email at William.Beckwith@fcc.gov.

SUPPLEMENTARY INFORMATION: This is a summary of public notice (DA 14-997) released on July 14, 2014; the complete text of the public notice is available for public inspection and copying from 8:00 a.m. to 4:30 p.m. Eastern Time (ET) Monday through Thursday or from 8:00 a.m. to 11:30 a.m. ET on Fridays in the FCC Reference Information Center, 445 12th Street SW., Room CY-A257, Washington, DC 20554. The document may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 14-997.

On July 2, 2014, NTCH, Inc. (Petitioner), filed a petition seeking Commission action to rescind the blanket forbearance of the rate publication requirement (47 U.S.C. 211) for roaming rates offered by CMRS carriers and to amend 47 CFR 20.15(b) by deleting the CMRS exemption from filing roaming rates, whether for data roaming or voice roaming. Petitioner also asks the Commission to adopt a rule requiring CMRS providers and commercial mobile data service providers to make their roaming rates publicly and openly available online and to prohibit CMRS and commercial mobile data service providers from entering into or enforcing agreements that prevent disclosure of roaming rates. By the public notice that was released on July 14, 2014 (DA 14-997), the Bureau seeks comment on the petition.

This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Nese B. Guendelsberger,
Chief, Spectrum and Competition Policy Division, Wireless Telecommunications Bureau.

[FR Doc. 2014-18626 Filed 8-5-14; 8:45 am]

BILLING CODE 6712-01-P